DEPARTMENT OF TRANSPORTATION

Federal Aviation Administration

14 CFR Parts 65 and 91

Technical Corrections

AGENCY: Federal Aviation Administration, DOT.

ACTION: Final rule; technical amendments.

SUMMARY: This action makes minor corrections to two final rules. The rules were published in the Federal Register on August 9, 1979 and August 18, 1989, respectively. This action corrects the paragraph reference which describes the requisite qualifications to obtain a repairman certificate. This action also corrects the appendix references which describe requirements for altimeter system and altitude reporting equipment tests and inspections. The intent of this action is to ensure that the regulations are clear and accurate.

EFFECTIVE DATES: Effective on February 20, 2007.

FOR FURTHER INFORMATION CONTACT: Kim Barnette, Aircraft Maintenance Division, Flight Standards Service, Federal Aviation Administration, 800 Independence Avenue, SW., Washington, DC 20591. Telephone: (202-493-4922); facsimile: (202-267-5115); e-mail: kim.a.barnette@faa.gov.

SUPPLEMENTARY INFORMATION: On August 9, 1979, the Federal Aviation Administration (FAA) published in the Federal Register (44 FR 46778) a final rule that amended 14 CFR 65.101 by designating the unnumbered paragraph as paragraph (a) and redesignating paragraphs (a) through (f) as paragraphs (a)(1) through (a)(6), respectively. However, the reference in paragraph (a)(6) to paragraph (c) was inadvertently not changed to reflect the redesignated numbering. This document makes the appropriate amendatory change to § 65.101(a)(6) to replace the incorrect reference (paragraph (c)) with the correct reference ( paragraph (a)(3)).

On August 18, 1989, the FAA published in the Federal Register (54 FR 34284) a final rule that included revisions to part 91, subpart E. One of the revisions was to redesignate § 91.171 (Altimeter system and altitude reporting equipment tests and inspections), as § 91.411. In making this change, the appendix references in paragraphs (a)(1) and (a)(2) were inadvertently reversed. That is, in paragraph (a)(1) we referenced appendix E, and in paragraph (a)(2), we referenced appendices E and F. However, the correct references are appendices E and F for paragraph (a)(1) and appendix E for paragraph (a)(2). This action revises § 91.411 to include the correct appendix references.

Technical Amendment

This technical amendment will change the paragraph reference in § 65.101(a)(6) from paragraph (c) to paragraph (a)(3). And, it will revise § 91.411 to reference appendices E and F in paragraph (a)(1) and appendix E in paragraph (a)(2).

These corrections to parts 65 and 91 will not impose any additional requirements on operators affected by these regulations.

List of Subjects

14 CFR Part 65

Air traffic controllers, Aircraft, Airmen, Airports, Alcohol abuse, Aviation safety, Drug abuse, Reporting and recordkeeping requirements and Security measures.

14 CFR Part 91

Afghanistan, Agriculture, Air traffic control, Aircraft, Airmen, Airports, Aviation safety, Canada, Cuba, Ethiopia, Freight, Mexico, Noise control, Political candidates, Reporting and recordkeeping requirements, Yugoslavia.

Accordingly, Title 14 of the Code of Federal Regulations (CFR) parts 65 and 91 are amended as follows:

PART 65—CERTIFICATION: AIRMEN OTHER THAN FLIGHT CREWMEMBERS

1. The authority citation for part 65 continues to read as follows:

Authority: 5 U.S.C. 8335(a); 49 U.S.C. 106(g); 49 U.S.C. 40113; 49 U.S.C. 44701-44703; 49 U.S.C. 44707; 49 U.S.C. 44709-44711; 49 U.S.C. 45102-45103; 49 U.S.C. 45301-45302.

2. Amend § 65.101 by revising paragraph (a)(6) to read as follows:

§ 65.101 Eligibility requirements: General.

(a) * * *

(6) Be able to read, write, speak, and understand the English language, or, in the case of an applicant who does not meet this requirement and who is employed outside the United States by a certificated repair station, a certificated U.S. commercial operator, or a certificated U.S. air carrier, described in paragraph (a)(3) of this section, have this certificate endorsed “Valid only outside the United States.”

* * * * *

PART 91—GENERAL OPERATING AND FLIGHT RULES

3. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

4. Amend § 91.411 by revising paragraphs (a)(1) and (a)(2) to read as follows:

§ 91.411 Altimeter system and altitude reporting equipment tests and inspections.

(a) * * *

(1) Within the preceding 24 calendar months, each static pressure system, each altimeter instrument, and each automatic pressure altitude reporting system has been tested and inspected and found to comply with appendices E and F of part 43 of this chapter;

(2) Except for the use of system drain and alternate static pressure valves, following any opening and closing of the static pressure system, that system has been tested and inspected and found to comply with paragraph (a), appendix E, of part 43 of this chapter; and

* * * * *

Issued in Washington, DC, on February 9, 2007.
Pamela Hamilton-Powell,
Director, Office of Rulemaking, Aviation Safety.

[FR Doc. E7-2802 Filed 2-16-07; 8:45 am]

BILLING CODE 4910-13-P